DEPARTMENT OF AGRICULTURE

Food Safety and Inspection Service

[Docket No. FSIS-2005-0047]

Codex Alimentarius Commission: Meeting of the Codex Committee on Milk and Milk Products

AGENCY: Office of the Under Secretary for Food Safety, USDA.

ACTION: Notice of public meeting and request for comments.

SUMMARY: The Office of the Under Secretary for Food Safety, U.S. Department of Agriculture (USDA), the Agricultural Marketing Service (AMS), USDA, and the Food and Drug Administration (FDA), U.S. Department of Health and Human Services (HHS), are sponsoring a public meeting on March 14, 2006. The objective of the public meeting is to provide information and receive public comments on agenda items and draft United States positions that will be discussed at the Seventh Session of the Codex Committee on Milk and Milk Products (CCMMP) of the Codex Alimentarius Commission (Codex), which will be held in Queenstown, New Zealand, March 27-April 1, 2006. The Under Secretary for Food Safety, AMS and FDA recognize the importance of providing interested parties the opportunity to obtain background information on the 7th Session of CCMMP and to address items on the agenda.

DATES: The public meeting is scheduled for Tuesday, March 14, 2006 from 9 a.m. to 12 noon.

ADDRESSES: The public meeting will be held in Room 2504, South Agriculture Building, USDA, 14th Street and Independence Avenue, SW., Washington, DC 20250. Documents related to the 7th Session of the CCMMP will be accessible via the World Wide Web at the following address: http://www.codexalimentarius.net/current.asp.

FSIS invites interested persons to submit comments on this notice. Comments may be submitted by any of the following methods:

Federal eRulemaking Portal: This Web site provides the ability to type short comments directly into the comment field on this Web page or attach a file for lengthier comments. FSIS prefers to receive comments through the Federal eRulemaking Portal. Go to http://www.regulations.gov and, in the “Search for Open Regulations” box, select “Food Safety and Inspection Service” from the agency drop-down menu, then click on “Submit.” In the Docket ID column, select the FDMS Docket Number FSIS-2005-0047 to submit or view public comments and to view supporting and related materials available electronically.

Mail, including floppy disks or CD-ROM's, and hand- or courier-delivered items: Send to Docket Clerk, U.S. Department of Agriculture, Food Safety and Inspection Service, 300 12th Street, SW., Room 102, Cotton Annex Building, Washington, DC 20250-3700.

Electronic mail: fsis.regulationscomments@fsis.usda.gov.

All submissions received must include the Agency name and docket number FSIS-2005-0047.

All comments submitted in response to this notice, as well as research and background information used by FSIS in developing this document, will be posted to the regulations.gov Web site. The background information and comments also will be available for public inspection in the FSIS Docket Room at the address listed above between 8:30 a.m. and 4:30 p.m., Monday through Friday.

In addition, the U.S. Delegate to the CCMMP, Mr. Duane Spomer of AMS, invites U.S. interested parties to submit their comments electronically to the following e-mail address (susan.sausville@usda.gov).

Pre-Registration: To gain admittance to this meeting, individuals must present a photo ID for identification and also are required to pre-register. In addition, no cameras or videotaping equipment will be permitted in the meeting room. To pre-register, please send the following information to this e-mail address (susan.sausville@usda.gov) by March 13, 2006:

—Your Name

—Organization

—Mailing Address

—Phone number

—E-mail address

For Further Information About the 7th Session of the CCMMP Contact: Susan Sausville, Assistant to the U.S. Delegate to the CCMMP, Chief Dairy Standardization Branch, AMS, USDA, 1400 Independence Avenue, SW., Room 2746, South Building, Washington, DC 20250, Phone: (202) 720-7473, Fax: (202) 720-2643. E-mail: susan.sausville@usda.gov.

For Further Information About the Public Meeting Contact: Amjad Ali, International Issues Analyst, U.S. Codex Office, Food Safety and Inspection Service, Room 4861, South Building, 1400 Independence Avenue, SW., Washington, DC 20250, Phone: (202) 205-7760, Fax: (202) 720-3157.

SUPPLEMENTARY INFORMATION:

Background

The Codex Alimentarius (Codex) was established in 1963 by two United Nations organizations, the Food and Agriculture Organization (FAO) and the World Health Organization (WHO). Codex is the major international organization for encouraging fair international trade in food and protecting the health and economic interests of consumers. Through adoption of food standards, codes of practice, and other guidelines developed by its committees, and by promoting their adoption and implementation by governments, Codex seeks to ensure that the world's food supply is sound, wholesome, free from adulteration, and correctly labeled.

The Codex Committee on Milk and Milk Products was established to elaborate codes, guidelines, standards and related texts for Milk and Milk Products. The committee is hosted by New Zealand.

Issues To Be Discussed at the Public Meeting

The following items on the Agenda for the 7th Session of the Committee will be discussed during the public meeting:

• Matters referred to the Committee from other Codex bodies.

• Review of the Proposed Draft and Draft Revised Standards: Dairy Spreads; Processed Cheese; Individual Cheeses; and Whey Cheeses.

• Proposed Standards for Products in Which Milkfat is Substituted for by Vegetable Fat.

• Model Export Certificate for Milk Products.

• Specific Food Additive Listings for the Codex Standard for Fermented Milk Products.

• Discussion Papers on new work on Fermented Milk Drinks, Naming of Non Standardized Dairy Products, and on an Amendment to the List of Additives Included in the Codex Standard for Creams and Prepared Creams.

Each issue listed will be fully described in documents distributed, or to be distributed, by the New Zealand Secretariat prior to the Meeting. Members of the public may access or request copies of these documents (see ADDRESSES).

Public Meeting

At the March 14th public meeting, draft U.S. positions on the agenda items will be described, discussed, and attendees will have the opportunity to pose questions and offer comments. Written comments may be offered at the meeting or sent to the U.S. Delegate for the 7th Session of CCMMP, Mr. Duane Spomer, (see ADDRESSES). Written comments should state that they relate to activities of the 7th Session of the CCMMP.

Additional Information

Public awareness of all segments of rulemaking and policy development is important. Consequently, in an effort to ensure that the public and in particular minorities, women, and persons with disabilities are aware of this notice, FSIS will announce it on-line through the FSIS web page located at http://www.fsis.usda.gov/regulations/2005_Notices_Index/index.asp.

FSIS also will make copies of this Federal Register publication available through the FSIS Constituent Update, which is used to provide information regarding SSIS policies, procedures, regulations, Federal Register notices, FSIS public meeting, recalls, and other types of information that could affect or would be of interest to our constituents and stakeholders. The update is communicated via Listserv, a free e-mail subscription service consisting of industry, trade, and farm groups, consumer interest groups, allied health professionals, scientific professionals, and other individuals who have requested to be included. The update is available on the FSIS Web page. Through Listserv and the Web page, FSIS is able to provide information to a much broader, more diverse audience.

In addition, FSIS offers an e-mail subscription service which provides an automatic and customized notification when popular pages are updated, including Federal Register publications and related documents. This service is available at http://www.fsis.usda.gov/news_and_events/email_subscription/ and allows FSIS customers to sign up for subscription options across eight categories.

Options range from recalls to export information to regulations, directives and notices.

Done at Washington, DC on January 24, 2006.
F. Edward Scarbrough,
U.S. Manager for Codex Alimentarius.

[FR Doc. E6-1091 Filed 1-27-06; 8:45 am]

BILLING CODE 3410-DM-P